CONSUMER PRODUCT SAFETY COMMISSION

Proposed Collection; Comment Request—Customer Satisfaction Surveys (Fast-Track Recall Survey, Ombudsman Survey, State Partner Survey, Hotline Survey, Web-site Survey, and Clearinghouse Survey)

AGENCY: Consumer Product Safety Commission.

ACTION: Notice.

SUMMARY: As required by the Paperwork Reduction Act of 1995 (44 U.S.C. Chapter 35) (PRA), the Consumer Product Safety Commission (CPSC) requests comments on a proposed request for an extension of its PRA approval to conduct surveys to determine customers' level of satisfaction with existing services. The Commission will consider all comments received in response to this notice before requesting approval of this collection of information from the Office of Management and Budget (OMB).

DATES: Written comments must be received by the Office of the Secretary not later than July 28, 2008.

ADDRESSES: Written comments should be captioned “Customer Satisfaction Surveys” and e-mailed to the Office of the Secretary at cpsc-os@cpsc.gov. Comments may also be sent by facsimile to (301) 504-0127, or by mail to the Office of the Secretary, Consumer Product Safety Commission, 4330 East West Highway, Bethesda, Maryland 20814.

FOR FURTHER INFORMATION CONTACT: For information about this proposed extension of approval of the collection of information, or to obtain a copy of the questions to be used for this collection of information, call or write Linda Glatz, Division of Policy and Planning, Office of Information Technology and Technology Services, Consumer Product Safety Commission, 4330 East West Highway, Bethesda, MD 20814; telephone: (301) 504-7671 or by e-mail to lglatz@cpsc.gov.

SUPPLEMENTARY INFORMATION:

A. Background

OMB has approved CPSC information collection activity using customer satisfaction surveys, OMB Control No. 0341-0128. CPSC seeks extension of that approval for six customer satisfaction surveys to determine the kind and quality of services CPSC customers want and customers' level of satisfaction with existing services. “Customers” of CPSC include any individual or entity interested in or affected by agency activities. These would include, but not be limited to: (1) Consumers that telephone the Hotline or access the CPSC Web-site via the internet to report product-related incidents, or to obtain information on recent product recalls; (2) consumers, industry members, or others that contact the National Injury Information Clearinghouse for information; (3) State representatives who work with CPSC on cooperative programs; (4) firms that use CPSC's Fast-Track Product Recall Program to report and simultaneously propose satisfactory product recall plans; and (5) small businesses that seek information or assistance from the CPSC's small business ombudsman.

These customer surveys are used by the CPSC Office of Financial Management, Planning and Evaluation to prepare sections of the agency's annual performance plan and accountability report in accordance with the Government Performance and Results Act of 1993. The information from the surveys will provide measures of the quality and effectiveness of agency efforts related to three goals in its strategic plan: informing the public, industry services, and customer satisfaction. If this information is not collected, the Commission would not have the means to measure its effectiveness in providing useful services to consumers and others, and lack information necessary to guide program development.

B. Estimated Burden

The surveys will be conducted by in-house staff primarily through internet, telephone, or in writing. The CPSC staff may: (1) Conduct customer service follow-up queries with a sample of telephone Hotline callers; (2) survey a sample of firms that use Fast-Track Product Recall and Ombudsman Programs to assess their views and suggestions for improvements in the services aspects of the program; (3) conduct a sample survey of state partners and customers of the National Injury Information Clearinghouse; and (4) obtain web-based survey information on customer satisfaction with the agency's Web-site. Fewer than 6 customer surveys or information collection activities a year would be conducted using this clearance. The Commission staff estimates the number of annual respondents to be about 684. The anticipated sources and respondents for surveys conducted over a three-year period include:

Hotline | 350
National Injury Information Clearinghouse | 300
Small Businesses | 200
State Partners | 54
Web-site | 1000
Fast Track Product Recall Program | 150
| 2,054

The estimated time of the total annualized cost/burden to respondents would be approximately 65 hours. The annualized cost to respondents for the hour burden for collection of information is $1,821.95 based on a total of 65 hours at $28.03/hour (Bureau of Labor Statistics average hourly private industry employer compensation costs, December 2007).

C. Requests for Comments

The Commission solicits written comments from all interested persons about the proposed extension. The Commission specifically seeks information relevant to the following topics:

— Whether the surveys described above are necessary for the proper performance of the Commission's functions, including whether the information would have practical utility;

— Whether the estimated burden of the proposed collections are accurate;

— Whether the quality, utility, and clarity of the information to be collected could be enhanced; and

— Whether the burden imposed by the collection of information could be minimized by use of automated, electronic or other technological collection techniques, or other forms of information technology.

Dated: May 23, 2008.
Todd Stevenson,
Secretary, Consumer Product Safety Commission.

[FR Doc. E8-12008 Filed 5-28-08; 8:45 am]

BILLING CODE 6355-01-P